DEPARTMENT OF AGRICULTURE

Foreign Agricultural Service

Uruguay Round Agricultural Safeguard Trigger Levels

AGENCY: Foreign Agricultural Service, USDA.

ACTION: Notice of product coverage and trigger levels for safeguard measures provided for in the Uruguay Round Agreement on Agriculture.

SUMMARY: This notice lists the updated quantity trigger levels for products which may be subject to additional import duties under the safeguard provisions of the Uruguay Round Agreement on Agriculture. It also includes the relevant period applicable for trigger levels on each of those products.

EFFECTIVE DATE: June 6, 2002.

FOR FURTHER INFORMATION CONTACT: Charles R. Bertsch, Multilateral Trade Negotiations Division, Foreign Agricultural Service, room 5530-South Building, U.S. Department of Agriculture, Washington, DC 20250-1022, telephone at (202) 720-6278, or email charles.bertsch@usda.gov.

SUPPLEMENTARY INFORMATION: Article 5 of the Uruguay Round Agreement on Agriculture provides that additional import duties may be imposed on imports of products subject to tariffication during the Uruguay Round if certain conditions are met. The agreement permits additional duties to be charged if the price of an individual shipment of imported products falls below the average price for similar goods imported during the years 1986-88 by a specified percentage. It also permits additional duties to be imposed if the volume of imports of an article exceeds the average of the most recent 3 years for which data are available by 5, 10, or 25 percent, depending on the article. These additional duties may not be imposed on quantities for which minimum or current access commitments were made during the Uruguay Round negotiations, and only one type of safeguard, price or quantity, may be applied at any given time to an article.

Section 405 of the Uruguay Round Agreements Act requires that the President cause to be published in the Federal Register information regarding the price and quantity safeguards, including the quantity trigger levels, which must be updated annually based upon import levels during the most recent 3 years. The President delegated this duty to the Secretary of Agriculture in Presidential Proclamation No. 6763, dated December 23, 1994. The Secretary of Agriculture further delegated the duty to the Administrator of the Foreign Agricultural Service (7 CFR 2.43 (a)(2)). The Annex to this notice contains the updated quantity trigger levels.

Additional information on the products subject to safeguards and the additional duties which may apply can be found in subchapter IV of Chapter 99 of the Harmonized Tariff Schedule of the United States and in the Secretary of Agriculture's Notice of Safeguard Action, published in the Federal Register at 60 FR 427, January 4, 1995.

Notice

As provided in section 405 of the Uruguay Round Agreements Act, consistent with Article 5 of the Agreement on Agriculture, the safeguard quantity trigger levels previously notified are superceded by the levels indicated in the Annex to this notice.

A. Ellen Terpstra,
Administrator, Foreign Agricultural Service.

Annex

The definitions of these products were provided in the Notice of Safeguard Action published in the Federal Register, at 60 FR 427, January 4, 1995.

Quantity Based Safeguard Trigger
Product | Trigger level | Period
Beef | 1,137,163 mt | January 1, 2002 to December 31, 2002.
Mutton | 14,679 mt | January 1, 2002 to December 31, 2002.
Cream | 6,341,016 liters | January 1, 2002 to December 31, 2002.
Evaporated or Condensed Milk | 7,106,191 kilograms | January 1, 2002 to December 31, 2002.
Nonfat Dry Milk | 4,205,862 kilograms | January 1, 2002 to December 31, 2002.
Dried Whole Milk | 3,430,322 kilograms | January 1, 2002 to December 31, 2002.
Dried Cream | 4,661 kilograms | January 1, 2002 to December 31, 2002.
Dried Whey/Buttermilk | 123,994 kilograms | January 1, 2002 to December 31, 2002.
Butter | 13,555,503 kilograms | January 1, 2002 to December 31, 2002.
Butter Oil and Butter Substitutes | 10,919,487 kilograms | January 1, 2002 to December 31, 2002.
Dairy Mixtures | 4,665,156 kilograms | January 1, 2002 to December 31, 2002.
Blue Cheese | 3,927,895 kilograms | January 1, 2002 to December 31, 2002.
Cheddar Cheese | 17,503,765 kilograms | January 1, 2002 to December 31, 2002.
American Type Cheese | 16,528,242 kilograms | January 1, 2002 to December 31, 2002.
Edam/Gouda Cheese | 8,169,998 kilograms | January 1, 2002 to December 31, 2002.
Italian-Type Cheese | 17,969,975 kilograms | January 1, 2002 to December 31, 2002.
Swiss Cheese with Eye Formation | 39,140,027 kilograms | January 1, 2002 to December 31, 2002.
Gruyere Process Cheese | 8,191,124 kilograms | January 1, 2002 to December 31, 2002.
Lowfat Cheese | 3,133,638 kilograms | January 1, 2002 to December 31, 2002.
NSPF Cheese | 57,214,298 kilograms | January 1, 2002 to December 31, 2002.
Peanuts | 60,603 mt | April 1, 2002 to March 31, 2003.
Peanut Butter/Paste | 21,299 mt | January 1, 2002 to December 31, 2002.
Raw Cane Sugar | 1,645,884 mt | October 1, 2001 to September 30, 2002.
| 1,358,418 mt | October 1, 2002 to September 30, 2003.
Refined Sugar and Syrups | 27,871 mt | October 1, 2001 to September 30, 2002.
| 46,395 mt | October 1, 2002 to September 30, 2003.
Blended Syrups | 0 mt | October 1, 2001 to September 30, 2002.
| 2 mt | October 1, 2002 to September 30, 2003.
Articles Over 65% Sugar | 0 mt | October 1, 2001 to September 30, 2002.
| 10 mt | October 1, 2002 to September 30, 2003.
Articles Over 10% Sugar | 80,886 mt | October 1, 2001 to September 30, 2002.
| 80,886 mt | October 1, 2002 to September 30, 2003.
Sweetened Cocoa Powder | 1,196 mt | October 1, 2001 to September 30, 2002.
| 759 mt | October 1, 2002 to September 30, 2003.
Chocolate Crumb | 25,261,975 kilograms | January 1, 2002 to December 31, 2002.
Lowfat Chocolate Crumb | 460,209 kilograms | January 1, 2002 to December 31, 2002.
Infant Formula Containing Oligosaccharides. | 125,000 kilograms | January 1, 2002 to December 31, 2002.
Mixes and Doughs | 5,366 mt | October 1, 2001 to September 30, 2002.
| 5,364 mt | October 1, 2002 to September 30, 2003.
Mixed Condiments and Seasonings | 243 mt | October 1, 2001 to September 30, 2002.
| 523 mt | October 1, 2002 to September 30, 2003.
Ice Cream | 4,218,503 liters | January 1, 2002 to December 31, 2002.
Animal Feed Containing Milk | 262,895 kilograms | January 1, 2002 to December 31, 2002.
Short Staple Cotton | 5,197,960 kilograms | September 20, 2001 to September 19, 2002.
| 5,273,740 kilograms | September 20, 2002 to September 19, 2003.
Harsh or Rough Cotton | 0 mt | August 1, 2001 to July 31, 2002.
| 0 mt | August 1, 2002 to July 31, 2003.
Medium Staple Cotton | 701,895 kilograms | August 1, 2001 to July 31, 2002.
| 740,504 kilograms | August 1, 2002 to July 31, 2003.
Extra Long Staple Cotton | 5,481,363 kilograms | August 1, 2001 to July 31, 2002.
| 6,562,505 kilograms | August 1, 2002 to July 31, 2003.
Cotton Waste | 0 kilograms | September 20, 2001 to September 19, 2002.
| 0 kilograms | September 20, 2002 to September 19, 2003.
Cotton, Processed, Not Spun | 748 kilograms | September 11, 2001 to September 10, 2002.
| 1,790 kilograms | September 11, 2002 to September 10, 2003.

[FR Doc. 02-14133 Filed 6-5-02; 8:45 am]

BILLING CODE 3410-10-P